ENVIRONMENTAL PROTECTION AGENCY

[EPA-HQ-OAR-2010-0690; FRL-9917-09-OAR]

Agency Information Collection Activities; Proposed Collection; Comment Request; EPA's Light-Duty In-Use Vehicle Testing Program (Renewal)

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB) (EPA ICR No. 0222.10, OMB Control No. 2060-0086). This ICR is scheduled to expire on September 30, 2014. Before submitting the ICR to OMB for review and approval, EPA is soliciting comments on specific aspects of the proposed information collection as described below.

DATES: Comments must be submitted on or before November 25, 2014.

ADDRESSES: Submit your comments referencing Docket ID No. EPA-HQ-OAR-2010-0690 online using www.regulations.gov (our preferred method), by email to pugliese.holly@epa.gov or by mail to: EPA Docket Center, Environmental Protection Agency, Mailcode 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Lynn Sohacki, Compliance Division, Office of Transportation and Air Quality, U.S. Environmental Protection Agency, 2000 Traverwood, Ann Arbor, Michigan 48105; telephone number: 734-214-4851; fax number: 734-214-4869; email address: sohacki.lynn@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA has an ongoing program to evaluate the emission performance of in-use light-duty (passenger car and light truck) motor vehicles. This program operates in conjunction with testing of prototype vehicles prior to use (manufacturer and EPA confirmatory testing for certification) and the mandatory manufacturer's in-use testing program (IUVP) for light-duty vehicles. They derive from the Clean Air Act's charge that EPA ensures that motor vehicles comply with emissions requirements throughout their useful lives. The primary purpose of the program is information gathering. Nevertheless, EPA can require a recall if it receives information, from whatever source, including in-use testing, that a “substantial number” of any class or category of vehicles or engines, although properly maintained and used, do not conform to the emission standards, when in actual use throughout their useful life.

The program can be broken down into three closely-related headings. The first is a surveillance program that selects approximately 40 classes of passenger cars and light trucks for in-use testing, at EPA's testing facility, totaling approximately 120 vehicles (three in each class on average). In some cases surveillance testing may be followed by compliance testing. The purpose of a compliance phase is to develop additional information related to test failures observed in a class during surveillance testing. This program that selects approximately 3 classes of 10 passenger cars and light trucks for in-use testing, at EPA's testing facility, totaling approximately 30 vehicles. The second heading is testing of a subset of vehicles from the surveillance recruitment for operation of on-board diagnostics (OBD) systems. EPA does not currently recruit vehicles for OBD testing but includes the testing in this ICR in the event that OBD testing is resumed. The third category is special investigations involving testing of vehicles to address specific issues. The number of vehicles procured under this category varies widely from year to year, but this request asks for approval of the information burden corresponding to 10 such vehicles per year for the next three years.

Participation in the light-duty surveys, as well as the vehicle testing, is strictly voluntary. A group of 25 to 50 potential participants is identified from state vehicle registration records. They are asked to return a form indicating their willingness to participate and if so, to verify some limited vehicle information. Three of those who return the card are called and asked several survey questions concerning vehicle condition, and operation and maintenance. Additional groups of potential participants may be contacted until a sufficient number of vehicles have been obtained. Owners verify the survey information when they deliver their vehicles to EPA, release the vehicle to EPA, voluntarily provide maintenance records for copying, receive a cash incentive and, if requested, a loaner car, then receive the vehicle from EPA at the conclusion of the testing.

Form Numbers: 5900-304, 5900-305, 5900-306, 5900-307, 5900-308, 5900-309

Frequency of response: On Occasion.

Respondents/affected entities: A group of 25 to 50 potential participants is identified from state vehicle registration records. They are asked to return a form indicating their willingness to participate and if so, to verify some limited vehicle information. Three of those who return the card are called and asked several questions concerning vehicle condition, and operation and maintenance. Additional groups of potential participants may be contacted until a sufficient number of vehicles have been obtained.

Respondent's obligation to respond: Voluntary.

Estimated number of respondents: Approximately 3917 owners/lessees receive EPA's solicitations to participate and approximately 160 do participate.

Total estimated burden: 505 hours (per year). Burden is defined at 5 CFR 1320.03(b).

Total estimated cost: $11,277. This includes an estimated burden cost of $11,277 and an estimated cost of $0 for capital investment or maintenance and operational costs.

Changes in Estimates: There is a decrease of 368 responses and 16 hours in the total estimated respondent burden compared with that identified in the ICR currently approved by OMB. This decrease is due to an adjustment of testing estimates based on the number and type of testing that has been conducted in this program over the past few years.

Dated: September 18, 2014.
Byron J. Bunker,
Director, Compliance Division, Office of Transportation and Air Quality.

[FR Doc. 2014-22745 Filed 9-25-14; 8:45 am]

BILLING CODE 6560-50-P